Proclamation 10639 of September 29, 2023

National Youth Justice Action Month, 2023

By the President of the United States of America

A Proclamation

During National Youth Justice Action Month, we recognize that young people deserve second chances, and we recommit to transforming the juvenile justice system by creating safer and more supportive communities where young people can thrive.

Between 2000 and 2020, the youth population in juvenile justice facilities declined by nearly 80 percent. But those who do enter the juvenile justice system are often confined in unsafe environments, live with trauma and mental health conditions that go untreated, and serve adult sentences. They are disproportionately young people of color and young people with disabilities. Without the support, resources, or guidance for meaningful rehabilitation, many young people who are released can fall back into old patterns that lead to their return to the justice system.

My Administration has made historic investments in improving our youth justice system. We are working to shift its focus from punishment to support and making our Nation's promise of equal justice a reality for all. My Administration is establishing and expanding evidence-based diversion programs when appropriate and broadening access to lawyers who will advocate for and advise children who are facing juvenile and criminal justice system involvement. For those leaving the system, our investments and programs are helping youth find housing, educational opportunities, mentorship, job training, and other services to support them once they return home. My new budget also calls for $760 million to advance juvenile justice programs with the goal of making the entire system more equitable.

I believe that to keep children out of trouble we need to ensure all of them have a fair shot at building a bright future with access to good schools, safe communities, and equal opportunities. To this end, my Administration has launched the National Partnership for Student Success to bring together 250,000 people across the country to serve as tutors and mentors for our students. We have secured $1.3 billion in funding for rural and inner-city schools to support afterschool and summer learning programs for K-12 students.

We also doubled funding for Full-Service Community Schools that support students and their families outside of the classroom with services like health care and career counseling. And when we passed the Nation's first major gun safety law in nearly three decades, we included measures to further increase the number of school psychologists and mental health counselors available to our children, and we made it easier for schools to use Medicaid to deliver health services, including mental health care. My Administration also launched 988, the National Suicide and Crisis Lifeline, which can connect young people experiencing a crisis with trained crisis counselors via phone, chat, and text. And we have invested in mobile crisis response teams, which often work with law enforcement to deliver immediate mental health professional support for those in crisis.

Our young people are the kite strings that keep our national ambitions aloft—the future of our Nation is in their hands. During National Youth Justice Action Month, we recommit to expanding opportunities for all of our Nation's children and building a justice system that allows our youth to thrive.

NOW, THEREFORE, I, JOSEPH R. BIDEN JR., President of the United States of America, by virtue of the authority vested in me by the Constitution and laws of the United States, do hereby proclaim October 2023 as National Youth Justice Action Month. I call upon all Americans to observe this month by taking action to support our youth and by participating in appropriate ceremonies, activities, and programs in their communities.

IN WITNESS WHEREOF, I have hereunto set my hand this twenty-ninth day of September, in the year of our Lord two thousand twenty-three, and of the Independence of the United States of America the two hundred and forty-eighth.

[FR Doc. 2023-22240

Filed 10-3-23; 8:45 am]

Billing code 3395-F4-P